FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier—Ocean Transportation Intermediary:

HPK Logistics (USA) Inc., 727 Brea Canyon Road, Suite 14, Walnut, CA 91789. Officers: Tigi Cai, Vice President/Treasurer (Qualifying Individual) Jian Sun, President.

Cargo Logistics International, LLC, 8761 Dorchester Road, Suite 205, North Charleston, SC 29420. Officer: Chad P. Rundle, President (Qualifying Individual).

Non-Vessel-Operating Common Carrier and Ocean Freight Forwarder—Ocean Transportation Intermediary:

OWI Specialized, Inc., 840 Apollo Street, Suite 311, El Segundo, CA 90245, Officer: Amitabh VW. Mittal President/CEO/Secretary/Treasurer/CFO/Director (Qualifying Individual).

Elite Logistics Corp., 2100 East 223rd Street, Carson, CA 90810. Officer: Moon C. Kang, President/VP/Secretary/CFO (Qualifying Individual).

Everlink Logistics, LLC, 1550 Northbrook Parkway, Suwanee, GA 30024. Officers: George Liu, Member/Principal Manager (Qualifying Individual) MiHwa K. Yu, Shareholder.

EJ Trade Logistics LLC, 6304 NW. 97th Avenue, Doral, FL 33178. Officers: Joani E. Vieites, Managing Member (Qualifying Individual) Eucario E. Escudero, Managing Member.

Integres Global Logistics, Inc., 10995 Gold Center Drive, Suite 120, Rancho Cordova, CA 95670. Officers: David DeBoer, Vice President (Qualifying Individual) Andrew C. Clarke, President/Director.

Pro-Line Shipping, Inc. dba Allied Shipping, 9102 Westpark Drive, Houston, TX 77063. Officers: Han aka Tony Liu, Vice President (Qualifying Individual) Richard Tsai, President.

Ocean Freight Forwarder—Ocean Transportation Intermediary:

Dockside Management, Inc. dba Dockside International Forwarders dba, Dockside Maritime Services, 8405 NW. 53th Street, Suite B-222 Miami, FL 33166. Officers: Gonzalo Torres, Jr., President/Secretary (Qualifying Individual) Clara M. Faya, Vice President/Treasurer.

Dated: April 2, 2010.
Rachel E. Dickon,
Assistant Secretary.

[FR Doc. 2010-7893 Filed 4-6-10; 8:45 am]

BILLING CODE 6730-01-P